DEPARTMENT OF COMMERCE

National Oceanic and Atmospheric Administration

RIN 0648-XE643

Mid-Atlantic Fishery Management Council; Public Meeting

AGENCY: National Marine Fisheries Service (NMFS), National Oceanic and Atmospheric Administration (NOAA), Commerce.

ACTION: Notice of public meeting.

SUMMARY: The Mid-Atlantic Fishery Management Council (Council) will hold a listening session via webinar regarding the 2017 recreational specifications for blueline tilefish off the Mid-Atlantic (from Virginia north).

DATES: The meeting will be held Thursday, June 9, 2016 at 7 p.m.

ADDRESSES: The meeting will be held via webinar with a telephone-only audio connection option: http://mafmc.adobeconnect.com/bltls/.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org will also have details on webinar access and any background materials.

SUPPLEMENTARY INFORMATION: In April 2016, the Council recommended 2017 recreational measures for blueline tilefish off the Mid-Atlantic with an open season from May 1 to October 31 and bag limits of 7 fish per person for inspected for-hire vessels, 5 fish per person for uninspected for-hire vessels, and 3 fish per person for private vessels. Based on concerns of constituents regarding this recommendation, the Council has scheduled time at its June 13-16, 2016 meeting to potentially reconsider these measures. To provide additional opportunity for the public to comment on this issue, the Council will hold a webinar-based listening session. During the listening session Council staff will summarize the rationale for the original recommendation, answer questions, and take comments on possible alternatives, which will be provided to the Council. Telephone connection information is provided when individuals enter the webinar, or individuals can call (800) 832-0736 and enter *7833942# to access the audio portion of the webinar. Anyone not familiar with connecting to Council webinars and wishing to get connection assistance should contact Jason Didden at jdidden@mafmc.org or 302-526-5254 at least a day before the webinar.

Special Accommodations

This meeting is physically accessible to people with disabilities. Requests for sign language interpretation or other auxiliary aid should be directed to M. Jan Saunders, (302) 526-5251, at least 5 days prior to the meeting date.

Dated: May 19, 2016.
Tracey L. Thompson,
Acting Deputy Director, Office of Sustainable Fisheries, National Marine Fisheries Service.

[FR Doc. 2016-12207 Filed 5-23-16; 8:45 am]

BILLING CODE 3510-22-P